DEPARTMENT OF ENERGY

Federal Energy Regulatory Commission

[Docket No. EL20-27-000]

Liberty Power Holdings LLC v. Eversource Energy Service Company and ISO New England, Inc.; Notice of Complaint

Take notice that on February 28, 2020, pursuant to section 206 of the Federal Power Act (FPA), 16 U.S.C. 824e, and Rule 206 of the Federal Energy Regulatory Commission's (Commission) Rules of Practice and Procedure, 18 CFR 385.206, Liberty Power Holdings LLC (Liberty or Complainant) filed a formal complaint against Eversource Energy Service Company (Eversource) and ISO New England, Inc. (ISO-NE or collectively Respondents), seeking compensation for improperly calculated and billed charges relating to load that was not the responsibility of Liberty during November of 2018 in violation of the FPA and the ISO-NE Tariff, all as more fully explained in the complaint.

The Complainant certifies that copies of the complaint were served on the contacts listed for Respondents in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on March 19, 2020.

Dated: March 4, 2020.
Kimberly D. Bose,
Secretary.

[FR Doc. 2020-04900 Filed 3-10-20; 8:45 am]

BILLING CODE 6717-01-P